DEPARTMENT OF HOMELAND SECURITY

Coast Guard

33 CFR Part 117

[CGD01-05-099]

Drawbridge Operation Regulations: Jamaica Bay and Connecting Waterways, NY

AGENCY: Coast Guard, DHS.

ACTION: Notice of temporary deviation from regulations and request for comment.

SUMMARY: The Commander, First Coast Guard District, has issued a temporary 90-day deviation from the drawbridge operation regulations to test an alternate drawbridge operation regulation for the Beach Channel Railroad Bridge mile 6.7, across Jamaica Bay, New York. Under this temporary deviation, in effect from December 1, 2005 through February 28, 2006, the bridge may remain closed during the commuter rail rush hours in the morning and afternoon, Monday through Friday, except Federal holidays. The purpose of this temporary deviation is to test an alternate drawbridge operation schedule for 90 days and solicit comment from the public.

DATES: This deviation is effective from December 1, 2005 through February 28, 2006. Comments must reach the Coast Guard on or before March 31, 2006.

ADDRESSES: You may mail comments to Commander (obr), First Coast Guard District Bridge Branch, One South Street, Battery Park Building, New York, New York, 10004, or deliver them to the same address between 7 a.m. and 3 p.m., Monday through Friday, except, Federal holidays. The telephone number is (212) 668-7165. The First Coast Guard District, Bridge Branch, maintains the public docket for this rulemaking. Comments and material received from the public, as well as documents indicated in this preamble as being available in the docket, will become part of this docket and will be available for inspection or copying at the First Coast Guard District, Bridge Branch, 7 a.m. to 3 p.m., Monday through Friday, except Federal holidays.

Request for Comments

We encourage you to participate in this rulemaking by submitting comments or related material. If you do so, please include your name and address, identify the docket number for this rulemaking (CGD01-05-099), indicate the specific section of this document to which each comment applies, and give the reason for each comment. Please submit all comments and related material in an unbound format, no larger than 8½ by 11 inches, suitable for copying. If you would like to know if they reached us, please enclose a stamped, self-addressed postcard or envelope. We will consider all comments and material received during the comment period. We may change this rule in view of them.

FOR FURTHER INFORMATION CONTACT: Judy Leung-Yee, Project Officer, First Coast Guard District, at (212) 668-7195.

SUPPLEMENTARY INFORMATION: The Beach Channel Railroad Bridge has a vertical clearance in the closed position of 26 feet at mean high water and 31 feet at mean low water. The existing drawbridge operation regulations require the bridge to open on signal at all times.

The bridge owner, New York City Transit, requested a change to the drawbridge operation regulations to allow the bridge to remain closed during the morning and afternoon commuter rail rush hours, from 6:45 a.m. to 8:20 a.m. and 5 p.m. to 6:45 p.m., Monday through Friday, except Federal holidays.

The Coast Guard decided to test the above proposed change to the drawbridge operation regulations for a period of 90 days to help determine if this proposed rule change will help facilitate commuter rail traffic and still meet the reasonable needs of navigation.

Under this temporary 90-day deviation, effective from December 1, 2005 through February 28, 2006, the Beach Channel Railroad Bridge need not open for the passage of vessel traffic between 6:45 a.m. and 8:20 a.m. and between 5 p.m. and 6:45 p.m., Monday through Friday, except Federal holidays.

This deviation from the operating regulations is authorized under 33 CFR 117.43.

Dated: October 25, 2005.
Gary Kassof,
Bridge Program Manager, First Coast Guard District.

[FR Doc. 05-21856 Filed 11-1-05; 8:45 am]

BILLING CODE 4910-15-P